FEDERAL RETIREMENT THRIFT INVESTMENT BOARD

Sunshine Act; Notice of Board Member Meeting

Agenda

Federal Retirement Thrift Investment Board, Federal Retirement Thrift Investment Board Members' Meeting, August 28, 2017, 10:00 a.m. (Telephonic).

Open Session

1. Approval of the Minutes for the July 24, 2017 Board Members' Meeting

2. Monthly Reports

(a) Participant Activity

(b) Investment Performance

(c) Legislative Report

3. Quarterly Reports

(a) Metrics

(b) Project Activity

(c) Audit Status

4. 2017-2018 Calendar Review

5. Blended Retirement Update

6. IT Update

Adjourn

CONTACT PERSON FOR MORE INFORMATION: Kimberly Weaver, Director, Office of External Affairs, (202) 942-1640.

Dated: August 16, 2017.
Megan Grumbine,
General Counsel, Federal Retirement Thrift Investment Board.

[FR Doc. 2017-17669 Filed 8-16-17; 4:15 pm]

BILLING CODE 6760-01-P